FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 4644F

Name: D.J. Powers International, Inc.

Address: 4777 Aviation Parkway, Ste. O, College Park, GA 30349

Date Revoked: September 20, 2002.

Reason: Surrendered license voluntarily.

License Number: 2826F

Name: Reicar International Shipping Corporation

Address: P.O. Box 83-0746, Miami, FL 33283

Date Revoked: April 7, 2000.

Reason: Surrendered license voluntarily.

License Number: 16051F

Name: Trans-Net, Inc. dba Transnet

Address: 710-5th Avenue NW, Issaquah, WA 98027

Date Revoked: June 19, 2002.

Reason: Failed to maintain a valid bond.

Sandra L. Kusumoto,
Director, Bureau of Consumer Complaints and Licensing.

[FR Doc. 02-28235 Filed 11-5-02; 8:45 am]

BILLING CODE 6730-01-P